DEPARTMENT OF THE TREASURY

Internal Revenue Service

26 CFR Part 1

[REG-103580-02]

RIN 1545-BA53

Noncompensatory Partnership Options

AGENCY: Internal Revenue Service (IRS), Treasury.

ACTION: Cancellation of notice of public hearing on proposed rulemaking.

SUMMARY: This document provides notice of cancellation of a public hearing on proposed regulations relating to the tax treatment of noncompensatory options and convertible instruments issued by a partnership.

DATES: The public hearing originally scheduled for Tuesday, May 20, 2003, at 10 a.m., is cancelled.

FOR FURTHER INFORMATION CONTACT: Treena Garrett of the Regulations Unit, Associate Chief Counsel (Procedure and Administration), (202) 622-7180 (not a toll-free number).

SUPPLEMENTARY INFORMATION: A notice of proposed rulemaking and notice of public hearing that appeared in the Federal Register on Wednesday, January 22, 2003, (68 FR 2930), announced that a public hearing was scheduled for Tuesday, May 20, 2003, at 10 a.m. in room 4718, Internal Revenue Service Building, 1111 Constitution Avenue, NW., Washington, DC. The subject of the public hearing is proposed regulations under sections 704(b), 721, and 761of the Internal Revenue Code. The public comment period for these proposed regulations expired on Tuesday, April 29, 2003. Outlines of oral comments were due on Tuesday, April 29, 2003.

The notice of proposed rulemaking and notice of public hearing, instructed those interested in testifying at the public hearing to submit a request to speak and an outline of the topics to be addressed. As of Tuesday, May 6, 2003, no one has requested to speak. Therefore, the public hearing scheduled for Tuesday, May 20, 2003, is cancelled.

LaNita Van Dyke,
Acting Chief, Regulations Unit, Associate Chief Counsel (Procedure and Administration).

[FR Doc. 03-11592 Filed 5-8-03; 8:45 am]

BILLING CODE 4830-01-P